ENVIRONMENTAL PROTECTION AGENCY

[EPA-HQ-OFA-2026-1322; FRL OPRM-FAD-210]

Notice of Intent To Prepare a Programmatic Environmental Assessment; Initiation of Public Scoping Under the National Environmental Policy Act; Initiation of Consultation Under Section 106 of the National Historic Preservation Act; and Notice of Intent To Develop a Section 106 Programmatic Agreement With the Alaska State Historic Preservation Officer

AGENCY: Environmental Protection Agency (EPA), Region 10; Alaska Operations Office.

ACTION: Notice of intent to prepare a programmatic environmental assessment; initiation of public scoping under the National Environmental Policy Act; initiation of consultation under section 106 of the National Historic Preservation Act; and notice of intent to develop a section 106 programmatic agreement with the Alaska State Historic Preservation Officer.

SUMMARY: EPA Region 10 intends to prepare a programmatic Environmental Assessment (EA) pursuant to the National Environmental Policy Act (NEPA), 42 U.S.C. 4321-4347, to evaluate the potential environmental and sociocultural effects of the EPA Contaminated Alaska Native Claims Settlement Act (ANCSA) Lands Assistance Program. The program provides funding to eligible Alaska Native Regional and Village Corporations, Federally Recognized Tribes in Alaska, Alaska Native Nonprofit Associations, Alaska Native Nonprofit Organizations and Alaskan Inter-Tribal Consortia (“applicants”) to investigate and remediate contamination present on ANCSA-conveyed lands at the time of conveyance. Through this notice, EPA is initiating scoping to help identify the scope of analysis, reasonable alternatives, and information sources, with particular attention to sociocultural issues tied to: (1) archaeological preservation and historic properties, including sacred sites and traditional cultural places; (2) protected subsistence resources and uses; and, (3) wetlands and associated aquatic resources. Concurrently, and pursuant to Section 106 of the National Historic Preservation Act (NHPA) (54 U.S.C. 306108) and its implementing regulations at 36 CFR part 800, EPA is initiating consultation with the Alaska State Historic Preservation Officer (SHPO), Federally Recognized Tribes in Alaska, Alaska Native corporations, and other consulting parties for the Contaminated ANCSA Lands Assistance Program. EPA intends to develop a Section 106 Programmatic Agreement (PA) under 36 CFR 800.14(b) with the Alaska SHPO and invited signatories and concurring parties to establish program-wide procedures for identifying, evaluating, and resolving effects to historic properties potentially affected by representative assessment and cleanup actions funded under the program. The EA will consider potential direct, indirect, and reasonably foreseeable impacts of representative cleanup actions funded under the program and will inform whether a Finding of No Significant Impact (FONSI) is appropriate or whether preparation of an Environmental Impact Statement (EIS) is warranted.

DATES: The scoping period begins upon publication of this notice. Scoping comments must be received on or before March 20, 2026. Requests to participate as a consulting party in Section 106 consultation and initial input on the scope and content of the Programmatic Agreement should be submitted on or before March 20, 2026. Tribal consultations will be held upon request.

ADDRESSES: You may send comments, identified by Docket ID No. EPA-HQ-OFA-2026-1322, by any of the following methods:

• Federal eRulemaking Portal: https://www.regulations.gov/ (our preferred method). Follow the online instructions for submitting comments.

• Email: ANCSA Program Team at ancsa@epa.gov.

• Mail: U.S. Environmental Protection Agency, Region 10, ANCSA Program, 222 W 7th Ave. Suite 537, Anchorage, Alaska 99513.

Comments received may be posted without change to https://www.regulations.gov/, including any personal information provided. For detailed instructions on sending comments and additional information on the notice, see the “Public Participation” heading of the SUPPLEMENTARY INFORMATION section of this document.

FOR FURTHER INFORMATION CONTACT: Lauren Boldrick, Program Manager, Alaska Operations Office, EPA Region 10; email: boldrick.lauren@epa.gov.

SUPPLEMENTARY INFORMATION:

I. Background and Purpose

The Alaska Native Claims Settlement Act (ANCSA) of 1971 conveyed approximately 46 million acres of land and monetary compensation to Alaska Native regional and village corporations. Some lands conveyed under ANCSA were contaminated prior to conveyance with substances such as arsenic, asbestos, lead, mercury, pesticides, polychlorinated biphenyls (PCBs), and petroleum products. These contaminants pose risks to human health, wetlands and aquatic resources, and subsistence resources important to Alaska Native communities.

Congress appropriated funding in fiscal year 2023 for EPA to establish and implement a grant program to assist applicants with addressing contamination on ANCSA lands that was present at the time of conveyance. EPA's program supports assessment and cleanup actions in compliance with applicable federal and state laws and regulations.

EPA intends to prepare this programmatic EA, and, to the extent permitted by law, so that the agency may assume the federal responsibilities for NEPA compliance and associated consultations and reviews to alleviate regulatory burden for applicants receiving cooperative agreements under this program. In coordination with the responsible agencies, EPA's environmental review includes consultation (formal and informal) and coordination for wetlands protection and compliance under the Clean Water Act (CWA); Section 106 of the National Historic Preservation Act (NHPA); Endangered Species Act; Marine Mammal Protection Act; and Essential Fish Habitat.

Consistent with 36 CFR part 800, EPA is initiating NHPA Section 106 consultation for the Contaminated ANCSA Lands Assistance Program and intends to develop a Programmatic Agreement under 36 CFR 800.14(b) with the Alaska SHPO as a signatory, and with invited signatories and concurring parties including Federally Recognized Tribes in Alaska, Alaska Native corporations, and federal partners as appropriate. The PA is expected to: (1) define how areas of potential effects will be established for representative actions; (2) establish standards and procedures for identification and evaluation of historic properties, including archaeological sites, sacred sites, and traditional cultural places; (3) set avoidance, minimization, and mitigation measures; and codify inadvertent discovery and unanticipated effects protocols, including stop-work, notification, and coordination procedures; (4) address confidentiality of sensitive cultural resource information, consistent with NHPA Section 304 and other applicable authorities; and (5) provide for monitoring, reporting, curation, training, and dispute resolution.

While the programmatic EA and PA are expected to streamline and tier site-specific reviews and relieve recipients of significant permitting and consultation burdens, some projects may still require additional permits or authorizations. For example, certain activities may trigger permitting under CWA Section 404 in which case any such permitting decisions will be made by the U.S. Army Corps of Engineers, which EPA has invited to participate as a cooperating agency. Additionally, EPA has invited the Formerly Used Defense Sites (FUDS) Program, to participate as a cooperating agency because of USACE's extensive experience with contaminated-site cleanups in Alaska and its federal archaeological and cultural resources subject-matter expertise, including Section 106 compliance.

EPA is inviting the State of Alaska to participate as a cooperating agency in the development of this EA because all ANCSA contaminated sites will be cleaned to the appropriate State of Alaska cleanup standards, with respect to other relevant state laws and regulations specific to the site.

EPA is issuing cooperative agreements under the Contaminated ANCSA Lands Assistance Program. At present, Federal environmental reviews and compliance process is often complex and unclear to EPA's cooperative agreement recipients. Through EPA's extensive work in Alaska, Region 10 also recognizes that many cooperative agreement recipients lack the environmental and legal resources to complete environmental reviews and consultations in an expeditious manner. Understanding these distinct issues, this programmatic EA and the accompanying Section 106 Programmatic Agreement are intended to reduce those barriers and provide a more efficient and consistent pathway to environmental compliance and site closure to fulfill EPA's directive from Congress to continue Federal efforts to resolve long-standing issues surrounding Indigenous land claims in Alaska.

II. Proposed Action and Alternatives

EPA proposes to implement the Contaminated ANCSA Lands Assistance Program through financial assistance to eligible entities for activities such as site assessment and characterization; removal actions; remediation and stabilization; debris and hazardous materials management; institutional controls; and associated community engagement and training. The programmatic EA will evaluate:

1. No Action Alternative (continuing awards or cleanup activities under the program as is).

2. Proposed Action Alternative (environmental compliance efforts undertaken by cooperative agreement recipients are significantly reduced).

3. Reasonable variations or mitigation approaches (e.g., enhanced avoidance buffers and seasonal work windows near sensitive cultural sites, subsistence use areas, and wetlands).

III. Key Issues for Scoping

EPA requests input on the following topics and any additional issues or data sources relevant to the EA:

Archaeological and cultural resources: identification, evaluation, and protection of historic properties and archaeological sites; development of the Section 106 Programmatic Agreement under 36 CFR 800.14(b); compliance with Section 106 of the National Historic Preservation Act; Tribal consultation; confidentiality of sensitive site information; inadvertent discovery protocols; and avoidance, minimization, and mitigation measures.

Protected subsistence resources and uses: effects on fish, wildlife, marine mammals, plants, and habitats that support subsistence uses protected under applicable federal laws (e.g., ANILCA Title VIII), including potential changes to access, timing, distribution, or abundance; beneficial effects from hazard reduction; and measures to avoid or minimize disruption to subsistence activities.

Wetlands and aquatic resources: potential temporary and long-term impacts on wetlands and waters (including hydrology, habitat, and water quality); compliance with the Clean Water Act and Executive Order 11990 (Protection of Wetlands); avoidance and minimization practices; and best management practices for work in or near wetlands and surface waters.

Sociocultural and community considerations: community health and well-being; preservation of traditional cultural landscapes; equity in benefits from cleanup; community engagement and communication approaches; and cumulative impacts.

Additional resource areas: threatened and endangered species; air quality; noise; land use; and waste management practices relevant to representative cleanup actions.

IV. Cooperating and Consulting Agencies and Entities

EPA invites federal and state agencies, Federally Recognized Tribes, and Alaska Native corporations with jurisdiction or special expertise to participate as cooperating agencies, as appropriate. EPA has invited the U.S. Army Corps of Engineers to participate as a cooperating agency, particularly regarding potential Clean Water Act Section 404 permitting, its extensive experience with contaminated-site cleanups in Alaska and its federal archaeological and cultural resources subject-matter expertise, including Section 106 compliance.

EPA is also inviting the State of Alaska to participate as a cooperating agency, because of the State's significant interest and respective legal authority.

For NHPA Section 106, EPA is initiating consultation with the Alaska SHPO and invites Federally Recognized Tribes in Alaska, Alaska Native corporations, and other parties with demonstrated interest or expertise to participate as consulting parties in the development of the Programmatic Agreement and in subsequent reviews tiered to the PA. EPA will notify and invite the Advisory Council on Historic Preservation (ACHP) to participate in the PA, as appropriate, pursuant to 36 CFR 800.6(a). EPA will fulfill consultation responsibilities, including under Section 106 of the National Historic Preservation Act and Executive Order 13175 (Consultation and Coordination with Indian Tribal Governments), and will coordinate, as applicable, with the Alaska State Historic Preservation Officer, U.S. Army Corps of Engineers, U.S. Fish and Wildlife Service, National Marine Fisheries Service, and other relevant agencies.

V. Public Scoping Process and Comments

Submittal EPA seeks comments that identify issues, data, and reasonable alternatives or mitigation measures to inform the EA and initial input to inform the Section 106 Programmatic Agreement. If you are commenting, we request that you please address the following factors:

1. Describe the specific topic or location and, if available, provide supporting data or references.

2. Identify any seasonal or cultural considerations (e.g., subsistence harvest periods, cultural use areas) that may inform timing and methods for cleanup.

3. Note any potential public health or safety concerns and suggest best practices.

In addition, EPA invites requests from individuals and organizations that seek consulting party status under Section 106 for this program. Requests should briefly describe the requester's interest and expertise and any relevant area(s) of concern. EPA will consider such requests consistent with 36 CFR 800.2(c)(5). EPA intends to make a draft Programmatic Agreement available for public review; a notice of availability will be posted to the docket identified below, and public comments will be accepted prior to execution of the PA.

Written Comments

The scoping period begins upon publication of this notice. Scoping comments must be received on or before March 20, 2026. Requests to participate as a consulting party in Section 106 consultation and initial input on the scope and content of the Programmatic Agreement should be submitted on or before March 20, 2026. Tribal consultations will be held upon request.

You may send comments, identified by Docket ID No. EPA-HQ-OFA-2026-1322, by any of the following methods:

• Federal eRulemaking Portal: https://www.regulations.gov/ (our preferred method). Follow the online instructions for submitting comments.

• Email: ANCSA Program Team at ancsa@epa.gov.

• Mail: U.S. Environmental Protection Agency, Region 10, ANCSA Program, 222 W 7th Ave. Suite 537, Anchorage, Alaska 99513.

Comments received may be posted without change to https://www.regulations.gov/, including any personal information provided. To the maximum extent authorized by law, EPA will protect from disclosure sensitive cultural resource information under NHPA Section 304 and other applicable authorities. EPA will announce availability of the Draft EA and the draft Programmatic Agreement for public review in a future Federal Register notice.

Dated: February 11, 2026.
Tami Fordham,
Director, Alaska Operations Office, EPA Region 10.

[FR Doc. 2026-03106 Filed 2-17-26; 8:45 am]

BILLING CODE 6560-50-P